DEPARTMENT OF ENERGY

Federal Energy Regulatory Commission

[Docket No. RP03-552-001]

Dominion Cove Point LNG, LP; Notice of Compliance Filing

September 11, 2003.

Take notice that on September 8, 2003, Dominion Cove Point LNG, LP (Cove Point) tendered for filing as part of its FERC Gas Tariff, Original Volume No. 1, Substitute Original Sheet No. 282, with an effective date of August 25, 2003.

Cove Point states that the filing is being made in compliance with the letter order issued in the captioned proceeding on August 22, 2003.

Cove Point states that the purpose of its filing is to comply with the Commission's Order accepting Cove Point's new Section 27 of the General Terms and Conditions of its Tariff (GT&C). Section 27 authorizes the sale from time to time of Regasified LNG or other Natural Gas that Cove Point has retained or taken title to pursuant to the terms of the GT&C, effective Rate Schedules, or Commission Orders and that it desires to remove from its system for operational reasons.

Cove Point states that copies of its filing have been served upon all parties to this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: September 22, 2003.

Linda Mitry,
Acting Secretary.

[FR Doc. 03-23809 Filed 9-17-03; 8:45 am]

BILLING CODE 6717-01-P